NATIONAL SCIENCE FOUNDATION

Advisory Committee for Geosciences; Notice of Meeting

In accordance with the Federal Advisory Committee Act (Pub. L. 92-463, as amended), the National Science Foundation announces the following meeting:

Name: Advisory Committee for Geosciences (1755).

Dates: April 2, 2014, 8:30 a.m.-5:00 p.m.; April 3, 2014, 8:30 a.m.-1:30 p.m.

Place: Stafford I, Room 375, National Science Foundation, 4201Wilson Blvd. Arlington, Virginia 22230.

Type of Meeting: Open.

Contact Person: Melissa Lane, National Science Foundation, Suite 705, 4201 Wilson Blvd., Arlington, Virginia 22230. Phone 703-292-8500.

Minutes: May be obtained from the contact person listed above.

Purpose of Meeting: To provide advice, recommendations, and oversight on support for geoscience research and education including atmospheric, geo-space, earth, ocean and polar sciences.

Agenda:

Wednesday, April 2, 2014 8:30 a.m.-5:00 p.m.

• Meeting with the Acting Director

• Directorate and NSF activities and plans

• Topical subcommittees on education/diversity, facilities, research and cyber-infrastructure

Thursday, April 3, 2014 8:30 a.m.-1:30 p.m.

• Division Subcommittee meetings

• Topical subcommittees on education/diversity, facilities, research and cyber-infrastructure, continued.

• Action Items/Planning for Fall Meeting

Dated: February 18, 2014.
Suzanne Plimpton,
Acting, Committee Management Officer.

[FR Doc. 2014-03759 Filed 2-21-14; 8:45 am]

BILLING CODE 7555-01-P